DEPARTMENT OF HEALTH AND HUMAN SERVICES

Health Resources and Services Administration

Agency Information Collection Activities: Submission to OMB for Review and Approval; Public Comment Request

AGENCY: Health Resources and Services Administration, HHS.

ACTION: Notice.

SUMMARY: In compliance with section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received no later than June 3, 2015.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 594-4306.

SUPPLEMENTARY INFORMATION:

Information Collection Request Title: Partnerships for Care (P4C) Supplemental Funding Progress Reports

OMB No. 0915-xxxx—New

Abstract: Partnerships for Care (P4C): Health Departments and Health Centers Collaborating to Improve HIV Health Outcomes is a 3-year partnership cross-HHS project. The activities described in this notice were funded in part by HRSA through the Secretary's Minority AIDS Initiative Fund, established by annual appropriations acts (most recently, the Consolidated and Further Continuing Appropriations Act, 2015, Public Law 113-235, Division G, title II) and the Community Health Center Fund established by section 10503 of the Affordable Care Act, Public Law 111-148, as amended. The goals of the P4C project are to build sustainable partnerships between HRSA-funded health centers and CDC-funded state health departments (including Massachusetts, New York, Maryland, and Florida) to support expanded HIV service delivery in communities highly impacted by HIV, especially among racial/ethnic minorities. State health departments and health centers will work together to increase the identification of undiagnosed HIV infection, establish new access points for HIV care and treatment, and improve HIV outcomes along the continuum of care for people living with HIV (PLWH) (see P4C fact sheet at http://www.cdc.gov/hiv/prevention/demonstration/p4c/index.html and HHS press release at http://www.hhs.gov/news/press/2014pres/07/20140715a.html). Eligible health centers (22 in 4 states) will receive up to $500,000 annually in HRSA supplemental funding (totaling $33M across the 3-year project period) to integrate high-quality, comprehensive HIV services into their primary care programs; and to work in collaboration with their state health department to (1) identify people with undiagnosed HIV infection, (2) link newly diagnosed individuals to care, and (3) retain patients living with HIV in care. Health centers must implement activities in five focus areas, including workforce development, infrastructure development, HIV service delivery, partnership development, and quality improvement and evaluation. Health centers must demonstrate progress toward implementing all required P4C activities and improving health care outcomes across the HIV care continuum (see http://aids.gov/federal-resources/policies/care-continuum/).

Need and Proposed Use of the Information: HRSA/Bureau of Primary Healthcare (BPHC) proposes standardized data collection and reporting through submission of five progress reports by the 22 health centers participating in the 3-year P4C project to achieve the following purposes:

1. Ensure appropriate stewardship of federal funds.

2. Support HHS efforts to streamline HIV data collection and reporting.

3. Assess health center progress in implementing approved work plans and meeting other P4C goals and objectives.

4. Assess health center progress in improving HIV outcomes across the HIV care continuum.

5. Support health center use of patient data to improve quality of HIV care.

6. Identify training and technical assistance needs among participating health centers.

7. Support identification and dissemination of effective models and promising practices for the integration of HIV services into primary care.

Proposed data collection closely aligns with (1) core HIV indicators established by HHS (see http://blog.aids.gov/2012/08/secretary-sebelius-approves-indicators-for-monitoring-hhs-funded-hiv-services.html), (2) measures endorsed by the National Quality Forum (see http://www.qualityforum.org/News_And_Resources/Press_Releases/2013/NQF_Endorses_Infectious_Disease_Measures.aspx), (3) performance measures used by the Ryan White HIV/AIDS Program (see http://hab.hrsa.gov/deliverhivaidscare/habperformmeasures.html), (4) the Health Center Program's Uniform Data System (see http://bphc.hrsa.gov/healthcenterdatastatistics/index.html#whatisuds), and (5) P4C project requirements. Specifically, HRSA/BPHC proposes submission of two progress reports each year by participating health centers to include aggregate, HIV-related, patient data (quantitative) and other information regarding implementation of approved work plans and budgets (narrative).

Likely Respondents: Health Center Program grantees receiving supplemental awards under the P4C project (22 total).

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below. As health centers develop reporting proficiencies and advance from initial start-up activities to establishing routine data abstraction methods for the new outcome measures, it is expected that the annualized burden will decrease by 20% each year.

Total Estimated Annualized Burden Hours
Form name | Number of respondents | Number of responses per respondent | Total responses | Average burden per response (in hours) | Total burden hours
Implementation Progress Report | 22 | 1 | 22 | 5 | 110
Outcomes Progress Report | 22 | 1 | 22 | 25 | 550
Total | 22 |  | 44 |  | 660

Jackie Painter,
Director, Division of the Executive Secretariat.

[FR Doc. 2015-10355 Filed 5-1-15; 8:45 am]

BILLING CODE 4165-15-P